DEPARTMENT OF ENERGY

Federal Energy Regulatory Commission

Combined Notice of Filings #3

Take notice that the Commission received the following electric rate filings:

Docket Numbers: ER18-1159-001.

Applicants: Midcontinent Independent System Operator, Inc., Pioneer Transmission, LLC.

Description: Tariff Amendment: 2018-07-02_Deficiency response re Pioneer Attachment O Filing to be effective 6/1/2018.

Filed Date: 7/2/18.

Accession Number: 20180702-5179.

Comments Due: 5 p.m. ET 7/23/18.

Docket Numbers: ER18-1911-000.

Applicants: Midcontinent Independent System Operator, Inc.

Description: § 205(d) Rate Filing: 2018-07-02_Termination of SA 2893 Black Hawk MPFCA (J233, J274, J278, J279) to be effective 7/3/2018.

Filed Date: 7/2/18.

Accession Number: 20180702-5028.

Comments Due: 5 p.m. ET 7/23/18.

Docket Numbers: ER18-1912-000.

Applicants: PJM Interconnection, L.L.C.

Description: § 205(d) Rate Filing: First Revised ISA SA No. 3041; Queue No. AC2-133 to be effective 6/4/2018.

Filed Date: 7/2/18.

Accession Number: 20180702-5134.

Comments Due: 5 p.m. ET 7/23/18.

Docket Numbers: ER18-1913-000.

Applicants: PJM Interconnection, L.L.C.

Description: § 205(d) Rate Filing: Second Revised ISA, SA No. 4109; Queue No. AB2-191 to be effective 8/1/2018.

Filed Date: 7/2/18.

Accession Number: 20180702-5135.

Comments Due: 5 p.m. ET 7/23/18.

Docket Numbers: ER18-1914-000.

Applicants: Midcontinent Independent System Operator, Inc.

Description: § 205(d) Rate Filing: 2018-07-02_SA 2959 Northern States Power-Stoneray Power Partners 1stRevGIA(J426) to be effective 6/20/2018.

Filed Date: 7/2/18.

Accession Number: 20180702-5149.

Comments Due: 5 p.m. ET 7/23/18.

Docket Numbers: ER18-1915-000.

Applicants: Bowfin KeyCon Energy, LLC.

Description: Baseline eTariff Filing: Bowfin Energy FERC Electric Tariff, Original Baseline to be effective 8/13/2018.

Filed Date: 7/2/18.

Accession Number: 20180702-5168.

Comments Due: 5 p.m. ET 7/23/18.

Docket Numbers: ER18-1917-000.

Applicants: Bowfin KeyCon Power, LLC.

Description: Baseline eTariff Filing: Bowfin Power FERC Electric Tariff, Original Baseline to be effective 8/13/2018.

Filed Date: 7/2/18.

Accession Number: 20180702-5169.

Comments Due: 5 p.m. ET 7/23/18.

Docket Numbers: ER18-1918-000.

Applicants: Kestrel Acquisition, LLC.

Description: Baseline eTariff Filing: Notices of succession to be effective 12/31/9998.

Filed Date: 7/2/18.

Accession Number: 20180702-5173.

Comments Due: 5 p.m. ET 7/23/18.

Docket Numbers: ER18-1919-000.

Applicants: Southwest Power Pool, Inc.

Description: § 205(d) Rate Filing: Midwest Energy Formula Rate Protocols Revisions to be effective 7/1/2018.

Filed Date: 7/2/18.

Accession Number: 20180702-5178.

Comments Due: 5 p.m. ET 7/23/18.

Docket Numbers: ER18-1920-000.

Applicants: Midcontinent Independent System Operator, Inc., MidAmerican Energy Company.

Description: § 205(d) Rate Filing: 2018-07-02_SA 3128 MidAmerican-CIPCO Amended Interconnection Agreement GFA 471 to be effective 7/3/2018.

Filed Date: 7/2/18.

Accession Number: 20180702-5180.

Comments Due: 5 p.m. ET 7/23/18.

Docket Numbers: ER18-1921-000.

Applicants: Southwest Power Pool, Inc.

Description: § 205(d) Rate Filing: 607R32 Westar Energy, Inc. NITSA NOA to be effective 6/1/2018.

Filed Date: 7/2/18.

Accession Number: 20180702-5184.

Comments Due: 5 p.m. ET 7/23/18.

Docket Numbers: ER18-1922-000.

Applicants: Lakeswind Power Partners, LLC.

Description: Market-Based Triennial Review Filing: Triennial Market Power Update (Central Region) and Tariff Revisions to be effective 9/1/2018.

Filed Date: 7/2/18.

Accession Number: 20180702-5185.

Comments Due: 5 p.m. ET 7/23/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 2, 2018.
Kimberly D. Bose,
Secretary.

[FR Doc. 2018-14766 Filed 7-10-18; 8:45 am]

BILLING CODE 6717-01-P